NUCLEAR REGULATORY COMMISSION

[NRC-2021-0136]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from May 27, 2021, to June 24, 2021. The last monthly notice was published on June 15, 2021.

DATES: Comments must be filed by August 12, 2021. A request for a hearing or petitions for leave to intervene must be filed by September 13, 2021.

ADDRESSES: You may submit comments by any of the following methods; however, the NRC encourages electronic comment submission through the Federal Rulemaking website:

• Federal Rulemaking Website: Go to https://www.regulations.gov and search for Docket ID NRC-2021-0136. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001, telephone: 301-415-2242, email: Paula.Blechman@nrc.gov.

SUPPLEMENTARY INFORMATION:

I. Obtaining Information and Submitting Comments

A. Obtaining Information

Please refer to Docket ID NRC-2021-0136, facility name, unit number(s), docket number(s), application date, and subject when contacting the NRC about the availability of information for this action. You may obtain publicly available information related to this action by any of the following methods:

• Federal Rulemaking Website: Go to https://www.regulations.gov and search for Docket ID NRC-2021-0136.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2021-0136, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Energy South Carolina, Inc.; Virgil C. Summer Nuclear Station, Unit 1, Fairfield County, SC
Docket No(s) | 50-395.
Application date | May 27, 2021.
ADAMS Accession No | ML21147A377.
Location in Application of NSHC | Pages 1-2 of Attachment 4.
Brief Description of Amendment(s) | The proposed amendment would revise the Virgil C. Summer Nuclear Station, Unit 1, Technical Specification 6.3, “Unit Staff Qualifications,” by relocating the unit staff qualifications to the Dominion Energy Nuclear Facility Quality Assurance Program Description consistent with guidance contained in the NRC Administrative Letter (AL) 95-06, “Relocation of Technical Specification Administrative Controls to Quality Assurance.”
Proposed Determination | NSHC.
Name of Attorney for Licensee, Mailing Address | W. S. Blair, Senior Counsel, Dominion Resource Services, Inc., 120 Tredegar St., RS-2, Richmond, VA 23219.
NRC Project Manager, Telephone Number | Stephanie Devlin-Gill, 301-415-5301.
Energy Northwest; Columbia Generating Station; Benton County, WA
Docket No(s) | 50-397.
Application date | April 28, 2021.
ADAMS Accession No | ML21118A812.
Location in Application of NSHC | Pages 9-10 of Enclosure 1.
Brief Description of Amendment(s) | The proposed amendment would remove License Condition (LC) 2.C.(34) and revise LC 2.C.(35) for Columbia Generating Station (Columbia). LC 2.C.(34) is no longer applicable as the Columbia Final Safety Analysis Report has been updated to include the License Renewal (LR) commitments set forth in NUREG-2123, “Safety Evaluation Report Related to the License Renewal of Columbia Generating Station,” published May 2012. The revision to LC 2.C.(35) would clarify that future changes to the LR commitments, as dictated by operating experience, would be made under the provisions of 10 CFR 50.59, “Changes, tests, and experiments.”
Proposed Determination | NSHC.
Name of Attorney for Licensee, Mailing Address | Kathleen Galioto, Assistant General Counsel, Energy Northwest, MD PE13, P.O. Box 968, Richland, WA 99352.
NRC Project Manager, Telephone Number | Mahesh Chawla, 301-415-8371.
Energy Northwest; Columbia Generating Station; Benton County, WA
Docket No(s) | 50-397.
Application date | May 8, 2021.
ADAMS Accession No | ML21130A573.
Location in Application of NSHC | Pages 3-4 of Enclosure 1.
Brief Description of Amendment(s) | The proposed amendment would alter Surveillance Requirement (SR) 3.3.1.1.2 of Technical Specification (TS) 3.3.1.1, “Reactor Protection System (RPS) Instrumentation.” This proposed change would revise the SR to verify that calculated (i.e., calorimetric heat balance) power is no more than 2 percent greater than the average power range monitor (APRM) channel output. The SR requires the APRM channel to be adjusted such that calibrated power is no more than 2 percent greater than the APRM indicated power when operating at greater than or equal to 25 percent of rated thermal power. The proposed change is consistent with Technical Specifications Task Force (TSTF) Traveler TSTF-546, Revision 0, “Revise APRM Channel Adjustment Surveillance Requirement.”
Proposed Determination | NSHC.
Name of Attorney for Licensee, Mailing Address | Kathleen Galioto, Assistant General Counsel, Energy Northwest, MD PE13, P.O. Box 968, Richland, WA 99352.
NRC Project Manager, Telephone Number | Mahesh Chawla, 301-415-8371.
Entergy Operations, Inc.; Waterford Steam Electric Station, Unit 3; St. Charles Parish, LA
Docket No(s) | 50-382.
Application date | May 28, 2021.
ADAMS Accession No | ML21148A104.
Location in Application of NSHC | Pages 4-5 of the Enclosure.
Brief Description of Amendment(s) | The proposed amendment would revise the technical specifications (TSs) in accordance with Technical Specifications Task Force (TSTF) Traveler TSTF-563, Revision 0, “Revise Instrument Testing Definitions to Incorporate the Surveillance Frequency Control Program,” dated May 10, 2017 (ADAMS Accession No. ML17130A819). TSTF-563 revises the TS definitions of Channel Calibration and Channel Functional Test, which currently permit performance by any series of sequential, overlapping, or total channel steps, to allow the required frequency for testing the components or devices in each step to be determined in accordance with the TS Surveillance Frequency Control Program. The NRC issued a final safety evaluation approving TSTF-563, Revision 0, on December 4, 2018 (ADAMS Accession No. ML18333A152).
Proposed Determination | NSHC.
Name of Attorney for Licensee, Mailing Address | Anna Vinson Jones, Senior Counsel, Entergy Services, Inc., 101 Constitution Avenue NW, Suite 200 East, Washington, DC 20001.
NRC Project Manager, Telephone Number | Perry Buckberg, 301-415-1383.
Exelon FitzPatrick, LLC and Exelon Generation Company, LLC; James A FitzPatrick Nuclear Power Plant; Oswego County, NY,
Docket No(s) | 50-333.
Application date | April 16, 2021.
ADAMS Accession No | ML21109A113.
Location in Application of NSHC | Pages 5-7 of the Enclosure.
Brief Description of Amendment(s) | The proposed amendment would revise certain technical specification (TS) requirements related to the reactor pressure vessel (RPV) water inventory control (WIC) for James A. FitzPatrick Nuclear Power Plant. The proposed changes are based on Technical Specifications Task Force (TSTF) Traveler TSTF-582, Revision 0, “RPV WIC Enhancements” (ADAMS Accession No. ML19240A260). The proposed changes also include other administrative changes to the TSs.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Nebraska Public Power District; Cooper Nuclear Station; Nemaha County, NE
Docket No(s) | 50-298.
Application date | May 11, 2021.
ADAMS Accession No | ML21132A062.
Location in Application of NSHC | Pages 7-9 of Attachment 1.
Brief Description of Amendment(s) | The proposed amendment would adopt Technical Specifications Task Force (TSTF) Traveler TSTF-582, “RPV WIC [Reactor Pressure Vessel Water Inventory Control] Enhancements,” at the Cooper Nuclear Station. The Technical Specifications related to RPV WIC would be revised to incorporate operating experience and to correct errors and omissions in TSTF-542, Revision 2, “Reactor Pressure Vessel Water Inventory Control.”
Proposed Determination | NSHC.
Name of Attorney for Licensee, Mailing Address | John C. McClure, Nebraska Public Power District, P.O. Box 499, Columbus, NE 68602-0499.
NRC Project Manager, Telephone Number | Thomas Wengert, 301-415-4037.
Nine Mile Point Nuclear Station, LLC and Exelon Generation Company, LLC; Nine Mile Point Nuclear Station, Unit 2; Oswego County, NY
Docket No(s) | 50-410.
Application date | May 26, 2021.
ADAMS Accession No | ML21146A045.
Location in Application of NSHC | Attachment 1, pages 4-6.
Brief Description of Amendment(s) | The proposed amendment would revise Technical Specification (TS) 3.8.3, “Diesel Fuel Oil, Lube Oil, and Starting Air,” by relocating the current stored diesel fuel oil and lube oil numerical volume requirements from the TS to a licensee controlled document. The TS would be modified so that the stored diesel fuel oil and lube oil inventory will require that a 7-day supply be available for each diesel generator. Condition A and Condition B in the Action table for TS 3.8.3 and Surveillance Requirements 3.8.3.1 and 3.8.3.2 would be revised to reflect the above change.
Proposed Determination | NSHC.
Name of Attorney for Licensee, Mailing Address | Tamra Domeyer, Associate General Counsel, Exelon Generation Company, LLC, 4300 Winfield Road, Warrenville, IL 60555.
NRC Project Manager, Telephone Number | Michael Marshall, 301-415-2871.
PSEG Nuclear LLC; Hope Creek Generating Station; Salem County, NJ
Docket No(s) | 50-354.
Application date | May 7, 2021.
ADAMS Accession No | ML21127A085.
Location in Application of NSHC | Pages 10-11 of the Enclosure.
Brief Description of Amendment(s) | The proposed amendment would revise Technical Specification 3/4.7.1.3, “Ultimate Heat Sink” (UHS), to modify the limiting condition for operation river temperature, increase the temperature in the action statement for opening the emergency discharge valves, add a new 72-hour allowed outage time for one station service water system pump or one safety auxiliary cooling system pump or one emergency diesel generator inoperable with UHS temperature above 88 degrees Fahrenheit, and revise the UHS average temperature limit and maximum temperature.
Proposed Determination | NSHC.
Name of Attorney for Licensee, Mailing Address | Steven Fleischer, PSEG Services Corporation, 80 Park Plaza, T-5, Newark, NJ 07102.
NRC Project Manager, Telephone Number | James Kim, 301-415-4125.
Southern Nuclear Operating Company, Inc.; Edwin I Hatch Nuclear Plant, Units 1 and 2; Appling County, GA; Southern Nuclear Operating Company, Inc.; Joseph M Farley Nuclear Plant, Units 1 and 2; Houston County, AL; Southern Nuclear Operating Company, Inc.; Vogtle Electric Generating Plant, Units 1 and 2; Burke County, GA
Docket No(s) | 50-321, 50-348, 50-364, 50-366, 50-424, 50-425.
Application date | June 22, 2021.
ADAMS Accession No | ML21173A064.
Location in Application of NSHC | Pages E-2 through E-4 of the Enclosure.
Brief Description of Amendment(s) | The proposed amendments would revise the technical specifications to remove the table of contents from the Joseph M. Farley Nuclear Plant, Units 1 and 2; Edwin I. Hatch Nuclear Plant (Hatch), Units, 1 and 2; and Vogtle Electric Generating Plant, Units 1 and 2, as well as remove the effective page list from the Hatch, Units 1 and 2, technical specifications, to be put under the licensee's control.
Proposed Determination | NSHC.
Name of Attorney for Licensee, Mailing Address | Millicent Ronnlund, Vice President and General Counsel, Southern Nuclear Operating Co., Inc., P. O. Box 1295, Birmingham, AL 35201-1295.
NRC Project Manager, Telephone Number | John Lamb, 301-415-3100.
Tennessee Valley Authority; Watts Bar Nuclear Plant, Unit 2; Rhea County, TN
Docket No(s) | 50-391.
Application date | March 11, 2021.
ADAMS Accession No | ML21070A432.
Location in Application of NSHC | Pages E-5-E-7 of the Enclosure.
Brief Description of Amendment(s) | The proposed amendments would delete Watts Bar, Unit 2, technical specification (TS) requirements that will no longer apply following installation of the replacement steam generators (SGs) including: the F* SG tube inspection methodology, the voltage-based alternate repair criteria SG tube inspection methodology, and the provision allowing the use of SG tube sleeving as an SG tube repair methodology. The proposed amendment would also revise TS 5.7.2.12.d.2 to reflect the Technical Specifications Task Force (TSTF) Traveler TSTF-510, “Revision to Steam Generator Program Inspection Frequencies and Tube Sample Selection,” Revision 2, TS requirements for Alloy 690 thermally treated tubing that will apply to the replacement SGs. Lastly, the proposed amendment would revise Facility Operating License Condition 2.C.(4) to delete the reference to PAD4TCD, which will not apply to the replacement SGs.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
DTE Electric Company; Fermi, Unit 2; Monroe County, MI
Docket No(s) | 50-341.
Amendment Date | June 11, 2021.
ADAMS Accession No | ML21147A167.
Amendment No(s) | 221.
Brief Description of Amendment(s) | The amendment revised the Fermi 2 technical specifications (TSs) to adopt Technical Specifications Task Force (TSTF) Traveler TSTF-563, Revision 0, “Revise Instrument Testing Definitions to Incorporate the Surveillance Frequency Control Program.” Specifically, the amendment revised TS Section 1.1, “Definitions,” to modify definitions for Channel Calibration and Channel Functional Test to allow the frequency for testing the components and devices in each step to be determined in accordance with the TS Surveillance Frequency Control Program.
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC
Docket No(s) | 50-413, 50-414, 50-369, 50-370.
Amendment Date | June 23, 2021.
ADAMS Accession No | ML21131A026.
Amendment No(s) | Catawba—308 (Unit 1) and 304 (Unit 2); McGuire—318 (Unit 1) and 297 (Unit 2).
Brief Description of Amendment(s) | The amendments revised Catawba Nuclear Station, Units 1 and 2 and McGuire Nuclear Station, Units 1 and 2 Technical Specification 3.8.1 regarding the emergency diesel generators to reduce the maximum steady state voltage specified in the associated surveillances.
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS
Docket No(s) | 50-416, 50-458.
Amendment Date | June 8, 2021.
ADAMS Accession No | ML21146A018.
Amendment No(s) | Grand Gulf—229 and River Bend—207.
Brief Description of Amendment(s) | The amendments changed the technical specifications to revise the current instrumentation testing definitions of Channel Calibration and Channel Functional Test to permit determination of the appropriate frequency to perform the surveillance requirement based on the devices being tested in each step. The changes are based on Technical Specifications Task Force (TSTF) Traveler TSTF-563, Revision 0, “Revise Instrument Testing Definitions to Incorporate the Surveillance Frequency Control Program.”
Public Comments Received as to Proposed NSHC (Yes/No) | No.
Entergy Nuclear Operations, Inc., Entergy Nuclear Indian Point 2, LLC; Indian Point Nuclear Generating Station, Unit No. 2; Westchester County, NY; Entergy Nuclear Operations, Inc., Entergy Nuclear Indian Point 3, LLC; Indian Point Nuclear Generating Station, Unit No. 3; Westchester County, NY; Entergy Nuclear Operations, Inc.; Indian Point Nuclear Generating Station, Unit No. 1; Westchester County, NY
Docket No(s) | 50-003, 50-247, 50-286.
Amendment Date | May 28, 2021.
ADAMS Accession No | ML21126A004.
Amendment No(s) | 64 (Unit 1), 295 (Unit 2), and 271 (Unit 3).
Brief Description of Amendment(s) | On November 23, 2020, the NRC issued an order approving the transfer of the licenses for Indian Point from Entergy to Holtec International (Holtec) subsidiaries, Holtec Indian Point 2, LLC and Holtec Indian Point 3, LLC. The order also approved the transfer of Entergy Nuclear Operations, Inc.'s (ENOI) operating authority for conducting license activities at the Indian Point Energy Center to Holtec Decommissioning International, LLC (HDI). The order also approved conforming administrative amendments to reflect the proposed transfer and to delete certain license conditions to reflect the satisfaction and termination of certain obligations after the license transfer. On May 28, 2021, Entergy and HDI informed the NRC that the transaction closed on May 28, 2021. Accordingly, the NRC issued Amendment No. 64 to Provisional License No. DPR-5, Amendment No. 295 to Renewed Facility License No. DPR-26 , and Amendment No. 271 to Renewed Facility License No. DPR-64. A copy of the related Safety Evaluation (ADAMS Accession No. ML20297A333) was provided with the Order dated November 23, 2020, approving the license transfer and the conforming amendment.
Public Comments Received as to Proposed NSHC (Yes/No) | Yes.
Entergy Operations, Inc.; Waterford Steam Electric Station, Unit 3; St. Charles Parish, LA
Docket No(s) | 50-382.
Amendment Date | May 19, 2021.
ADAMS Accession No | ML21082A302.
Amendment No(s) | 259.
Brief Description of Amendment(s) | The amendment revised the current emergency action level scheme to one based on Nuclear Energy Institute (NEI) guidance in NEI 99-01, Revision 6, “Development of Emergency Action Levels for Non-Passive Reactors,” dated November 2012, which was endorsed by the NRC in a letter dated March 26, 2013.
Public Comments Received as to Proposed NSHC (Yes/No) | No.
Exelon Generation Company, LLC; LaSalle County Station, Units 1 and 2; LaSalle County, IL
Docket No(s) | 50-373, 50-374.
Amendment Date | May 27, 2021.
ADAMS Accession No | ML21082A422.
Amendment No(s) | 249 (Unit 1) and 235 (Unit 2).
Brief Description of Amendment(s) | The amendments modified the licensing basis by the addition of a license condition to allow for the implementation of the provisions of 10 CFR 50.69, “Risk-informed categorization and treatment of structures, systems and components for nuclear power reactors.”
Public Comments Received as to Proposed NSHC (Yes/No) | No.
Pacific Gas and Electric Company; Humboldt Bay Power Plant Unit 3; Humboldt County, CA
Docket No(s) | 50-133.
Amendment Date | June 24, 2021.
ADAMS Accession No | ML21158A123.
Amendment Nos | 46.
Brief Description of Amendment(s) | The amendment revised the Humboldt Bay Power Plant, Unit 3 (HBPP) license by revising License Condition 2.C.5. This license condition incorporates the revised License Termination Plan into the HBPP license. All other aspects of the license remain the same.
Public Comments Received as to Proposed NSHC (Yes/No) | No.
Tennessee Valley Authority; Watts Bar Nuclear Plant, Unit 2; Rhea County, TN
Docket No(s) | 50-391.
Amendment Date | June 17, 2021.
ADAMS Accession No | ML21148A100.
Amendment No(s) | 53.
Brief Description of Amendment(s) | The amendment revised Technical Specification 5.9.6, “Reactor Coolant System (RCS) Pressure and Temperature Limits Report (PTLR),” to add WCAP-18124-NP-A, Revision 0, “Fluence Determination with RAPTOR-M3G and FERRET,” as a neutron fluence calculational methodology for the evaluation of reactor vessel specimens to support the determination of reactor coolant system pressure and temperature limits.
Public Comments Received as to Proposed NSHC (Yes/No) | No.
Vistra Operations Company LLC; Comanche Peak Nuclear Power Plant, Unit Nos. 1 and 2; Somervell County, TX
Docket No(s) | 50-445, 50-446.
Amendment Date | May 19, 2021.
ADAMS Accession No | ML21061A217.
Amendment No(s) | 180 (Unit 1) and 180 (Unit 2).
Brief Description of Amendment(s) | The amendments authorized changes and clarifications to specific emergency action levels of the Emergency Plan, and supporting bases discussions, for the Comanche Peak Nuclear Power Plant, Unit Nos. 1 and 2.
Public Comments Received as to Proposed NSHC (Yes/No) | No.
Vistra Operations Company LLC; Comanche Peak Nuclear Power Plant, Unit Nos. 1 and 2; Somervell County, TX
Docket No(s) | 50-445, 50-446.
Amendment Date | June 9, 2021.
ADAMS Accession No | ML21132A089.
Amendment No(s) | 181 (Unit 1) and 181 (Unit 2).
Brief Description of Amendment(s) | The amendments adopted Technical Specifications Task Force (TSTF) Traveler TSTF-567, Revision 1, “Containment Sump TS [Technical Specification] to Address GSI [Generic Safety Issue]-191 Issues.” The amendments revised the TSs to address the condition of the containment sump made inoperable due to containment accident generated and transported debris exceeding the analyzed limits.
Public Comments Received as to Proposed NSHC (Yes/No) | No.

IV. Notice of Issuance of Amendment to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the table below. The safety evaluation will provide the ADAMS accession number(s) for the application for amendment and the Federal Register citation for any environmental assessment. All of these items can be accessed as described in the “Obtaining Information and Submitting Comments” section of this document.

License Amendment Issuance(s)—Exigent/Emergency Circumstances
Exelon FitzPatrick, LLC and Exelon Generation Company, LLC; James A FitzPatrick Nuclear Power Plant; Oswego County, NY
Docket No(s) | 50-333.
Amendment Date | June 14, 2021.
ADAMS Accession No | ML21162A042.
Amendment No(s) | 342.
Brief Description of Amendment(s) | The amendment modified Technical Specification (TS) 3.5.1, “ECCS [Emergency Core Cooling System]—Operating,” Condition A; TS 3.6.4.1, “Secondary Containment,” Condition A; and TS 3.6.1.9 Residual Heat Removal (RHR) Containment Spray System,” as well as certain Surveillance Requirements to support emergent repair of the “A” RHR pump motor. Specifically, the amendment revised the completion time from 7 days to 34 days for the “A” RHR pump, the completion time from 4 hours to 30 hours for restoring secondary containment, and the completion time from 7 days to 27 days for restoring one containment spray subsystem to operable status. Additionally, the amendment allowed extending the completion of several surveillance requirements of equipment being protected during the replacement of the “A” RHR pump motor.
Local Media Notice (Yes/No) | No.
Public Comments Requested as to Proposed NSHC (Yes/No) | No.

V. Previously Published Notice of Consideration of Issuance of Amendment to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Exelon Generation Company, LLC; Braidwood Station, Units 1 and 2; Will County, IL
Docket No(s) | 50-456, 50-457.
Application Date | May 27, 2021.
ADAMS Accession No | ML21147A543.
Brief Description of Amendment(s) | The proposed amendment would revise Technical Specification Surveillance Requirement 3.7.9.2 to allow an ultimate heat sink temperature of less than or equal to 102.8 degrees Fahrenheit through September 30, 2021.
Date & Cite of Federal Register Individual Notice | June 10, 2021 (86 FR 30991).
Expiration Dates for Public Comments & Hearing Requests | July 12, 2021 (Public Comments); August 9, 2021 (Hearing Requests).

Dated: July 3, 2021.
For the Nuclear Regulatory Commission.
Jennifer L. Dixon-Herrity,
Acting Deputy, Director, Division of Operating Reactor, Licensing, Office of Nuclear Reactor Regulation.

[FR Doc. 2021-14642 Filed 7-12-21; 8:45 am]

BILLING CODE 7590-01-P